ENVIRONMENTAL PROTECTION AGENCY

[OPP-00439M; FRL-6818-1]

Pesticide Program Dialogue Committee;Committee and Charter Renewal

AGENCY: Environmental Protection Agency (EPA).

ACTION: Notice.

SUMMARY: As required by the Federal Advisory Committee Act, 5 U.S.C., App. 2 section 9(c), EPA's Office of Pesticide Programs (OPP) is giving notice of the renewal of the Pesticide Program Dialogue Committee (PPDC) and its Charter and the appointment of new members.

DATES: The PPDC Charter, which was filed with Congress on November 9, 2001, will be in effect for 2 years, until November 9, 2003.

FOR FURTHER INFORMATION CONTACT: Margie Fehrenbach (7501C), Office of Pesticide Programs, Environmental Protection Agency, 1200 Pennsylvania Ave., NW., Washington, DC 20460; telephone number: (703) 308-4775 or (703) 305-7093; fax number: (703) 308-4776; e-mail address: Fehrenbach.Margie@epa.gov.

SUPPLEMENTARY INFORMATION:

I. General Information

A. Does this Action Apply to Me?

This action is directed to the public in general. This action may, however, it may be of interest to persons who are concerned about implementation of the Federal Insecticide, Fungicide, and Rodenticide Act; the Federal Food, Drug, and Cosmetic Act; and the amendments to both of these major pesticide laws by the Food Quality Protection Act (Public Law 104-170) of 1996. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about PPDC, go directly to the Home Page for EPA's Office of Pesticide Programs at http://www.epa.gov/pesticides/ppdc.

2. In person. The Agency has established an administrative record for this meeting under docket control number OPP-00439M. The administrative record consists of the documents specifically referenced in this notice, any public comments received during an applicable comment period, and other information related to the Pesticide Program Dialogue Committee (PPDC). This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How Can I Participate in PPDC Meetings?

PPDC meetings and workshops will be open to the public under section 10(a)(2) of the Federal Advisory Committee Act, Public Law 92-463. Outside statements by observers will be welcome. Oral statements will be limited to 3-5 minutes, and it is preferred that only one person per organization present the statement. Any person who wishes to file a written statement may do so before or after the meeting. These statements will become part of the permanent record and will be available for public inspection at the address in Unit II.2.

II. Background

The PPDC is composed of 42 members appointed by the EPA Deputy Administrator. Committee members were selected from a balanced group of participants from the following sectors: Pesticide users, grower and commodity groups; industry and trade associations; environmental/public interest and farmworker groups; Federal, State and tribal governments; public health organizations; animal welfare; and academia. PPDC was established to provide a public forum to discuss a wide variety of pesticide regulatory development and reform initiatives, evolving public policy and program implementation issues, and science policy issues associated with evaluating and reducing risks from use of pesticides.

List of Subjects

Environmental protection, Agriculture, Chemicals, Drinking water, Foods, Pesticides, Pests.

Dated: December 21, 2001.
Marcia E. Mulkey,
Director, Office of Pesticide Programs.

[FR Doc. 01-32214 Filed 12-31-01; 8:45 am]

BILLING CODE 6560-S